FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011956-002.

Title: IDX Vessel Sharing Agreement.

Parties: Emirates Shipping Line FZE; Shipping Corporation of India, Ltd.; Orient Overseas Container Line Ltd.; Italia Marittima S.p.A.; and Zim Integrated Shipping Services, Ltd.

Filing Party: Wayne R. Rohde, Esq.; Sher & Blackwell LLP; 1850 M Street, NW; Suite 900; Washington, DC 20036.

Synopsis: The amendment adds Orient Overseas Container Line Ltd. and Italia Marittima S.p.A. as parties to the agreement, makes corresponding changes in the agreement, clarifies provisions dealing with the agreement's duration and termination, and restates the agreement.

By Order of the Federal Maritime Commission.
Dated: December 22, 2006.
Bryant L. VanBrakle,
Secretary.

[FR Doc. E6-22294 Filed 12-27-06; 8:45 am]

BILLING CODE 6730-01-P